DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; DP1 Catalyst—HIV Comorbidities, Coinfections, and Complications.

Date: July 28, 2025.

Time: 1:00 p.m. to 4:00 p.m.

Agenda: To review and evaluate grant applications.

Address: National Institutes of Health, Rockledge II, 6701 Rockledge Drive, Bethesda, MD 20892.

Meeting Format: Virtual Meeting.

Contact Person: Anuja Mathew, Ph.D., Scientific Review Officer, NIAID/SRP BG 5601FL RM 3G58, 5601 Fishers Lane, Rockville, MD 20852, (301) 761-6911, anuja.mathew@nih.gov.

Name of Committee: Center for Scientific Review Special Emphasis Panel; PAR Panel: Topics in HIV-Related Investigator Initiated Clinical Trials.

Date: July 30, 2025.

Time: 11:00 a.m. to 3:00 p.m.

Agenda: To review and evaluate grant applications.

Address: National Institutes of Health, Rockledge II, 6701 Rockledge Drive, Bethesda, MD 20892.

Meeting Format: Virtual Meeting.

Contact Person: Lee G Klinkenberg, Ph.D., Primary is AI, Scientific Review Program, Division of Extramural Activities, National Institutes of Health, NIAID, Rockville, MD 20892, 301-761-7749, lee.klinkenberg@nih.gov.

Name of Committee: Center for Scientific Review Special Emphasis Panel; RFA-DK-25-021: Cellular Models of HIV Pathogenesis.

Date: July 30, 2025.

Time: 11:00 a.m. to 4:00 p.m.

Agenda: To review and evaluate grant applications.

Address: National Institutes of Health, Rockledge II, 6701 Rockledge Drive, Bethesda, MD 20892.

Meeting Format: Virtual Meeting.

Contact Person: Santanu Banerjee, Ph.D., Scientific Review Officer, Center for Scientific Review, National Institutes of Health, 6701 Rockledge Drive, Room 2106, Bethesda, MD 20892, (301) 435-5947, banerjees5@mail.nih.gov.

Name of Committee: Center for Scientific Review Special Emphasis Panel; Program Project: NIDCD Clinical Research Center Grant Review.

Date: July 30-31, 2025.

Time: 1:00 p.m. to 4:00 p.m.

Agenda: To review and evaluate grant applications.

Address: National Institutes of Health, Rockledge II, 6701 Rockledge Drive, Bethesda, MD 20892.

Meeting Format: Virtual Meeting.

Contact Person: Andrea B Kelly, Ph.D., Scientific Review Officer, NIDCD, National Institutes of Health, 6001 Executive Blvd., Room 8343, Rockville, MD 20852, (301) 451-6339, kellya2@mail.nih.gov.

Name of Committee: Center for Scientific Review Special Emphasis Panel; Sensory-Motor Systems.

Date: July 30, 2025.

Time: 2:00 p.m. to 6:00 p.m.

Agenda: To review and evaluate grant applications.

Address: National Institutes of Health, Rockledge II, 6701 Rockledge Drive, Bethesda, MD 20892.

Meeting Format: Virtual Meeting.

Contact Person: Kirk Thompson, Ph.D., Scientific Review Officer, Center for Scientific Review, National Institutes of Health, 6701 Rockledge Drive, Room 5184, MSC 7844, Bethesda, MD 20892, 301-435-1242, kgt@mail.nih.gov.

Name of Committee: Center for Scientific Review Special Emphasis Panel; Member Conflict: Health Services and Systems—Risks, Interventions, and Outcomes.

Date: July 31, 2025.

Time: 9:00 a.m. to 6:00 p.m.

Agenda: To review and evaluate grant applications.

Address: National Institutes of Health, Rockledge II, 6701 Rockledge Drive, Bethesda, MD 20892.

Meeting Format: Virtual Meeting.

Contact Person: Shiv A. Prasad, Ph.D., Scientific Review Officer, Scientific Review Program, Division of Extramural Activities, National Institutes of Health, NIAID, Rockville, MD 20892, shiv.prasad@nih.gov.

Name of Committee: Center for Scientific Review Special Emphasis Panel; RFA Panel: BRAIN development of novel brain function tools.

Date: July 31, 2025.

Time: 9:30 a.m. to 6:00 p.m.

Agenda: To review and evaluate grant applications.

Address: National Institutes of Health, Rockledge II, 6701 Rockledge Drive, Bethesda, MD 20892.

Meeting Format: Virtual Meeting.

Contact Person: Victor Henriquez, Ph.D., Scientific Review Officer. National Center for Advancing Translational Sciences (NCATS), National Institutes of Health, 6701 Democracy Blvd., Democracy 1, Room 1066, Bethesda, MD 20892-4878, (301) 435-0813, victor.henriquez@nih.gov.

Name of Committee: Center for Scientific Review Special Emphasis Panel; PAR Panel: Complementary and Integrative Health Approaches and Mind and Body Interventions.

Date: July 31, 2025.

Time: 9:30 a.m. to 4:00 p.m.

Agenda: To review and evaluate grant applications.

Address: National Institutes of Health, Rockledge II, 6701 Rockledge Drive, Bethesda, MD 20892.

Meeting Format: Virtual Meeting.

Contact Person: Cheryl K Nordstrom, Ph.D., MPH, Scientific Review Officer, NIDDK/Scientific Review Branch, National Institutes of Health, 6707 Democracy Blvd., Room 7013, Bethesda, MD 20892, 301-402-6711, cheryl.nordstrom@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 26, 2025.
Bruce A. George,
Program Analyst, Office of Federal Advisory Committee Policy.

[FR Doc. 2025-12027 Filed 6-27-25; 8:45 am]

BILLING CODE 4140-01-P